DEPARTMENT OF AGRICULTURE

Submission for OMB Review; Comment Request

The Department of Agriculture has submitted the following information collection requirement(s) to OMB for review and approval under the Paperwork Reduction Act of 1995, Public Law 104-13. Comments are requested regarding whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 1, 2026 will be considered. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Food Safety and Inspection Service

Title: New Swine Inspection System.

OMB Control Number: 0583-0171.

Summary of Collection: The Food Safety and Inspection Service (FSIS) has been delegated the authority to exercise the functions of the Secretary (7 CFR 2.18, 2.53), as specified in the Federal Meat Inspection Act (FMIA) (21 U.S.C. 601, et seq.). This statute mandates that FSIS protect the public by verifying that meat and meat products are safe, wholesome, and properly labeled. FSIS is requesting renewal of the approved information collection regarding swine slaughter inspection. On February 19, 2026, FSIS published a Notice of Proposed Rulemaking that would remove an attestation-related element of the collection, resulting in a reduction in the estimated burden. This revision aligns with the proposed rule and reflects the updated burden estimate.

Need and Use of the Information: FSIS requires that all swine slaughter establishments operating under the New Swine Slaughter Inspection System (NSIS) monitor their systems through microbial testing and recordkeeping. Swine slaughter establishments operating under NSIS must also maintain records to document the total number of animals and carcasses sorted and removed per day and the reasons for their removal. Swine slaughter establishments may record their disposition data on FSIS Form 6200-3, Establishment Sorting Record, or provide the same information as requested on the form electronically if it is submitted in a format approved by FSIS.

Description of Respondents: Business or other for-profit.

Number of Respondents: 84.

Frequency of Responses: Recordkeeping; Reporting: On occasion.

Total Burden Hours: 4,347.

Levi S. Harrell,
Departmental Information Collection Clearance Officer.

[FR Doc. 2026-04109 Filed 2-27-26; 8:45 am]

BILLING CODE 3410-DM-P